ENVIRONMENTAL PROTECTION AGENCY

40 CFR Part 300

[FRL-7608-6]

National Oil and Hazardous Substances Pollution Contingency Plan; National Priorities List

AGENCY: Environmental Protection Agency.

ACTION: Notice of partial deletion of the Del Monte Corporation (Oahu Plantation) Superfund Site from the National Priorities List.

SUMMARY: The Environmental Protection Agency (EPA) Region 9 announces the deletion of the Poamoho section of the Del Monte Corporation (Oahu Plantation) Superfund Site (the Site) from the National Priorities List (NPL). The NPL, promulgated pursuant to section 105 of the Comprehensive Environmental Response, Compensation, and Liability Act (CERCLA) of 1980, as amended, 42 U.S.C. 9605, is codified at Appendix B of the National Oil and Hazardous Substances Pollution Contingency Plan (NCP), 40 CFR part 300. This partial deletion is consistent with the EPA's Notice of Policy Change: Policy Regarding Partial Deletion of Sites Listed on the National Priorities List. 60 FR 55466 (November 1, 1995). This partial deletion pertains to the Poamoho section of the Site. This partial deletion does not pertain to the Kunia section of the site. The Kunia section of the site will remain on the NPL, and response activities will continue at that section. With the concurrence of the State of Hawaii through the Hawaii Department of Health (DOH), the EPA has determined that Site investigations show that the Poamoho section of the Site poses no significant threat to public health or the environment; consequently, pursuant to CERCLA section 105, and 40 CFR 300.425(e), the Poamoho section of the Site is hereby deleted from the NPL.

EFFECTIVE DATE: January 13, 2004.

FOR FURTHER INFORMATION CONTACT: Janet Rosati, Remedial Project Manager, (415) 972-3165, or toll-free (800) 231-3075, U. S. Environmental Protection Agency, Region 9, 75 Hawthorne Street, Mail Code SFD-8-2, San Francisco, CA 94105. Information on the Site is available at the local information repository located at: Wahiawa Public Library, 820 California Avenue, Wahiawa, HI 96786, (808) 622-6345. Site information is also available at the U.S. EPA Records Center, 95 Hawthorne Street, San Francisco, CA 94105, (415) 536-2000.

SUPPLEMENTARY INFORMATION: The site to be partially deleted from the NPL is the Del Monte Corporation (Oahu Plantation) Superfund Site, Kunia, Honolulu County, Oahu, Hawaii. This partial deletion pertains to the Poamoho section of the Site. This partial deletion does not pertain to the Kunia section of the Site. This partial deletion is in accordance with 40 CFR 300.425(e) and the Notice of Policy Change: Partial Deletion of Sites Listed on the National Priorities List, 60 FR 55466 (Nov. 1, 1995). A Notice of Intent to Partially Delete this Site was published in the Federal Register on October 30, 2003 (62 FR 60058). The closing date for comments on the Notice of Intent for Partial Site Deletion was December 1, 2003. The EPA received two comment letters which supported the partial deletion.

EPA identifies sites that appear to present a significant risk to public health, welfare, or the environment and it maintains the NPL as the list of those sites. Sites on the NPL may be the subject of Fund-financed remedial actions. Section 300.425(e)(3) of the NCP, 40 CFR 300.425(e)(3), states that Fund-financed actions may be taken at sites deleted from the NPL in the unlikely event that conditions at the site warrant such action. Deletion of a site from the NPL does not affect responsible party liability or impede EPA efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: January 2, 2004.
Laura Yoshii,
Acting Regional Administrator, Region 9.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

2. Table 1 of Appendix B to part 300 is amended by revising the entry for “Del Monte Corp. (Oahu Plantation)” to read as follows:

Appendix B—[Amended]

Table 1.—General Superfund Section
State | Site name | City/county | Notes ¹
* * * * * * *
HI | Del Monte Corp. (Oahu Plantation) | Honolulu County | P
* * * * * * *
¹ A = Based on issuance of health advisory by Agency for Toxic Substances and Disease Registry (if scored, HRS score need not be ≤28.50).
P=Sites with partial deletion(s).

* * * * *

[FR Doc. 04-558 Filed 1-12-04; 8:45 am]

BILLING CODE 6560-50-P